JOINT BOARD FOR THE ENROLLMENT OF ACTUARIES

Meeting of the Advisory Committee

AGENCY: Joint Board for the Enrollment of Actuaries

ACTION: Notice of Federal advisory committee meeting.

SUMMARY: The Joint Board for the Enrollment of Actuaries gives notice of a meeting of the Advisory Committee on Actuarial Examinations (a portion of which will be open to the public).

DATES: Monday, January 6, 2025, from 9 a.m. to 5 p.m., and Tuesday, January 7, 2025, from 8:30 a.m. to 4 p.m.

ADDRESSES: The meeting will be held at the Internal Revenue Service, 1111 Constitution Avenue NW, Washington, DC 20224.

FOR FURTHER INFORMATION CONTACT: Ms. Elizabeth Van Osten, Designated Federal Officer, Advisory Committee on Actuarial Examinations, at (202) 317-3648 or elizabeth.j.vanosten@irs.gov.

SUPPLEMENTARY INFORMATION: Notice is hereby given that the Advisory Committee on Actuarial Examinations will meet at the Internal Revenue Service, 1111 Constitution Avenue NW, Washington, DC 20224, on Monday, January 6, 2025, from 9 a.m. to 5 p.m. and Tuesday, January 7, 2025, from 8:30 a.m. to 4 p.m. A portion of the meeting will be open to the public.

The purpose of the meeting is to discuss topics and questions that may be recommended for inclusion on future Joint Board examinations in actuarial mathematics and methodology referred to in 29 U.S.C. 1242(a)(1)(B) and to review the November 2024 Pension (EA-2F) to make recommendations relative thereto, including the minimum acceptable passing score. Topics for inclusion on the syllabus for the Joint Board's examination program for the May 2025 Basic (EA-1) Examination and the May 2025 Pension (EA-2L) Examination also will be discussed.

A determination has been made as required by section 10(d) of the Federal Advisory Committee Act, 5 U.S.C. 1009(d), that the portions of the meeting dealing with the discussion of questions that may appear on the Joint Board's examinations and the review of the November 2024 EA-2F Examination fall within the exception to the open meeting requirement set forth in 5 U.S.C. 552b(c)(9)(B), and that the public interest requires that such portions be closed to public participation.

The open portion of the meeting dealing with the discussion of the other topics will commence at 12 p.m. on January 6, 2025, and will continue for as long as necessary to complete the discussion, but not beyond 1 p.m. Time permitting, after the close of this discussion by Committee members, interested persons may make statements germane to this subject. Persons wishing to make oral statements should contact the Designated Federal Officer at NHQJBEA@IRS.GOV and include the written text or outline of comments they propose to make orally. Such comments will be limited to 10 minutes in length. Persons who wish to attend the public session should contact the Designated Federal Officer at NHQJBEA@IRS.GOV to obtain access instructions. Notifications of intent to make an oral statement or to attend the meeting must be sent electronically to the Designated Federal Officer no later than December 27, 2024. In addition, any interested person may file a written statement for consideration by the Joint Board and the Advisory Committee by sending it to NHQJBEA@IRS.GOV.

Dated: December 11, 2024.
Thomas V. Curtin, Jr.,
Executive Director, Joint Board for the Enrollment of Actuaries.

[FR Doc. 2024-29527 Filed 12-13-24; 8:45 am]

BILLING CODE 4830-01-P